DEPARTMENT OF ENERGY

Federal Energy Regulatory Commission

[Docket No. CP02-24-000]

PG&E Gas Transmission, Northwest Corp.; Notice of Intent to Prepare an Environmental Assessment for the Proposed 2003 Expansion Pipeline Project and Request for Comments on Environmental Issues

December 11, 2001.

The staff of the Federal Energy Regulatory Commission (FERC or Commission) will prepare an environmental assessment (EA) that will discuss the environmental impacts of the PG&E Gas Transmission, Northwest Corporation's (PG&E Transmission) 2003 Expansion Project in Oregon, Washington, and Idaho.¹ These facilities would consist of about 54 miles of pipeline and 19,500 horsepower (hp) of compression. This EA will be used by the Commission in its decision-making process to determine whether the project is in the public convenience and necessity.

¹ PG&E Gas Transmission, Northwest Corporation's application in Docket No. CP02-24-000 was filed with the Commission under Section 7(c) of the Natural Gas Act.

If you are a landowner on PG&E Transmission's proposed route and receive this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Western Frontier provided to landowners along and adjacent to the proposed route. This fact sheet addresses a number of typically asked questions, including the use of eminent domain and how to participate in the Commission's proceedings. It is available for viewing on the FERC Internet web site (www.ferc.gov).

This notice is being sent to landowners of property crossed by and adjacent to PG&E Transmission's proposed route; Federal, state, and local agencies; elected officials; environmental and public interest groups; and local libraries and newspapers. Additionally, with this notice we are asking those Federal, state, local and tribal agencies with jurisdiction and/or special expertise with respect to environmental issues to cooperate with us in the preparation of the EA. These agencies may choose to participate once they have evaluated the proposal relative to their agencies' responsibilities. Agencies who would like to request cooperating agency status should follow the instructions for filing comments described below.

Summary of the Proposed Project

PG&E Transmission proposes to expand the capacity of its existing mainline system by constructing a total of 53.6 miles of new natural gas pipeline loop ² (42-inch-diameter) and to upgrade compression at its existing Compressor Station 14. PG&E Transmission requests Commission authorization, to construct, install, own, operate, and maintain the following facilities:

² A loop is a segment of pipeline installed adjacent to an existing pipeline and connected to it at both ends. The loop allows more gas to be moved through the system.

• About 18.4 miles of 42-inch-diameter loop in Boundary County, Idaho, including modifications to Compressor Station 3 and Mainline Valve (MLV) 3-1 (Segment 3);

• About 16.7 miles of 42-inch-diameter loop in Spokane and Whitman Counties, Washington, including modifications to Compressor Station 6 and MLV 6-1 (Segment 6);

• About 12.7 miles of 42-inch-diameter loop in Walla Walla County, Washington, including modifications to Compressor Station 7 and MLV 7-1 (Segment 7);

• About 5.8 miles of 42-inch-diameter loop in Umatilla County, Oregon, include modifications to MLV 8-1 and MLV 8-2;

• One new 19,500 horsepower (hp) gas turbine-driven compressor to be installed at PG&E Transmission's existing Compressor Station 14 in Klamath County, Oregon; and

• Associated pipeline facilities, including four pig launchers, four pig receivers, and 5 mainline block valves.

The general location of PG&E Transmission's proposed project facilities is shown on the map attached as appendix 1.³

³ The appendices referenced in this notice are not being printed in the Federal Register. Copies are available on the Commission's website at the “RIMS” link or from the Commission's Public Reference and Files Maintenance Branch, 888 First Street, NE, Room 2A, Washington DC 20426, or call (202) 208-1371. For instructions on connecting to RIMS refer to the last page of this notice. Copies of the appendices were sent to all those receiving this notice in the mail.

Land Requirements for Construction

PG&E Transmission would construct a total of about 54 miles of new pipeline loop, of which about 18 miles would be in Idaho, 30 miles would be in Washington, and 6 miles would be in Oregon. Construction of the loop would require about 860 acres of land. Of this total, about 849.4 acres would be temporary right-of-way and about 10.5 acres would be maintained as new permanent right-of-way. PG&E Transmission would also require the use of about 157.9 acres of extra workspace for its ancillary areas, aboveground facility expansions, and access roads.

PG&E Transmission's existing permanent right-of-way for its mainline system on private lands is 100 feet wide, containing the two parallel existing pipelines, Pipelines A and B. The proposed loop (Pipeline C) would generally be constructed 30 feet east of Pipeline B, using the existing 100-foot-wide permanent right-of-way as the construction right-of-way. PG&E Transmission states that no new permanent right-of-way would be acquired for construction of the proposed Pipeline C, except for some properties. After construction, the existing 100-foot-wide permanent right-of-way would be retained, and would typically result in a permanent right-of-way 90 feet west and 10 feet east of the Proposed Pipeline C.

In some site-specific locations, PG&E Transmission would install the new loop 20 feet east of Pipeline B, instead of 30 feet. This decrease in separation between Pipeline C and B would occur in areas with residences or other structures in close proximity to the eastern permanent right-of-way boundary. By moving the proposed pipeline closer to Pipeline B, PG&E Transmission would increase the distance between Pipeline C and the edge of the right-of-way. This alignment would also be installed entirely within PG&E Transmission's 100-foot-wide permanent right-of-way.

On federal lands, PG&E Transmission would obtain another Right-of-way Grant from the U.S. Forest Service (USFS) for an additional overlapping 53.5 -foot easement and would install the new Pipeline C with a nominal 30-foot separation from Pipeline B. For this project, the total width of permanent right-of-way, including the existing and new easements, would be a maximum of 110 feet in width. On federal lands, except for extra workspace for slopes and at road, railroad, stream, and wetland crossings, no temporary right-of-way would be used as part of the construction right-of-way.

The EA Process

The National Environmental Policy Act (NEPA) requires the Commission to take into account the environmental impacts that could result from an action whenever it considers the issuance of a Certificate of Public Convenience and Necessity. NEPA also requires us ⁴ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

⁴ “We”, “us”, “our” refer to the environmental staff of the Office of Energy Projects (OEP).

Our independent analysis of the issues will be published in the EA which will be mailed to Federal, state, and local agencies, public interest groups, affected landowners and other interested individuals, newspapers, libraries, and the Commission's official service list for this proceeding. A 30-day comment period will be allotted for review of and comment on the EA. We will consider all comments on the EA and it will be used by the Commission in its decision-making process to determine whether to approve the project.

Currently Identified Environmental Issues

The EA will discuss impacts that could occur as a result of the construction and operation of the proposed project. We have already identified a number of issues that we think deserve attention based on a preliminary review of the proposed facilities and the environmental information provided by PG&E Transmission. These issues are listed below. This is a preliminary list of issues and may be changed based on your comments and our analysis.

• Geology and Soils

—Mixing of topsoil and subsoil during construction.

—Compaction of soil by heavy equipment.

—Erosion control and right-of-way restoration.

—Potential geologic hazards, including seismic activity.

• Water Resources and Wetlands

—Potential effects on groundwater resources.

—Effects on private water supply wells.

—Effects on 20 perennial waterbodies, including six crossings of the Moyie River.

—Effects on about 2.6 acres of wetlands.

• Biological Resources

—Short- and long-term effects of right-of-way clearing and maintenance on grasslands, wetlands, riparian areas, and vegetation communities of special concern.

—Effects on wildlife and species of concern, including raptors;

—Effects on fishery habitats, including four federally listed fish species;

—Potential effects on federally listed species, such as the gray wolf, grizzly bear, Sellkirk Mountains Woodland Caribou, Ute ladies' tresses and habitats for the bald eagle, gray wolf and lynx in Idaho; and water howellia and Ute ladie' tresses in Washington.

—Potential impact on USFS sensitive species.

—Potential impact on state-listed sensitive species.

• Cultural Resources

—Effects on historic and prehistoric sites.

—Native American concerns.

• Land Use

—Effects on agricultural lands.

—Potential impacts on residential areas.

—Effects on recreation areas.

—Effects of about 3.9 miles of crossing USFS, Panhandle National Forest lands (Segment 3).

—Potential impacts on future land uses and consistency with local land use plans and zoning.

—Visual/aesthetic effects of constructing the project.

• Air Quality and Noise

—Construction impacts on local air quality and noise environment.

—Impact on local air quality and noise environment as a result of operation of the upgraded compressor stations.

• Pipeline Reliability and Safety

—Assessment of public safety factors associated with natural gas pipelines.

• Alternatives

—Assessment of alternative routes, systems or energy sources to lessen or avoid impacts on the various resource areas.

Public Participation

You can make a difference by providing us with your specific comments or concerns about the project. By becoming a commentor, your concerns will be addressed in the EA and considered by the Commission. You should focus on the potential environmental effects of the proposal, alternatives to the proposal (including alternative routes), and measures to avoid or lessen environmental impact. The more specific your comments, the more useful they will be. Please carefully follow these instructions to ensure that your comments are received in time and properly recorded:

• Send an original and two copies of your letter to: Linwood A. Watson, Acting Secretary, Federal Energy Regulatory Commission, 888 First Street, NE., Room 1A, Washington, DC 20426.

• Label one copy of the comments for the attention of the Environmental Gas Branch I, PJ-11.1;

• Reference Docket Nos. CP02-24-000;

• Mail your comments so that they will be received in Washington, DC on or before January 11, 2002.

Federal and state agencies, such as the U.S. Forest Service and the U.S. Army Corps of Engineers, are invited to participate as cooperating agencies in the preparation of the EA. If any agency is interested in participating with the Commission on this basis, please write to the Secretary with this request at the address listed above.

Comments, protests and interventions may be filed electronically via the Internet in lieu of paper. See, 18 CFR 385.2001(a)(1)(iii) and the instructions on the Commission's web site at http://www.ferc.gov under the “e-Filing” link and link to the User's Guide. Before you can file comments you will need to create an account which can be created by clicking on “Login to File” and then “New User Account.”

Everyone who responds to this notice or comments throughout the EA process will be retained on our mailing list. If you do not want to send comments at this time but still want to remain on our mailing list, please return the Information Request (appendix 3). If you do not return the Information Request, you will be taken off the mailing list.

Becoming an Intervenor

In addition to involvement in the EA scoping process, you may want to become an official party to the proceeding or become an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to rule 214 of the Commission's rules of practice and procedure (18 CFR 385.214) (see appendix 2).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding that would not be adequately represented by any other parties. You do not need intervenor status to have your environmental comments considered.

Availability of Additional Information

Copies of this filing are on file with the Commission and are available for public inspection. This filing may also be viewed on the web at http://www.ferc.gov using the “RIMS” link, select “Docket#” and follow the instructions (call 202-208-2222 for assistance).

Similarly, the “CIPS” link on the FERC Internet website provides access to the texts of formal documents issued by the Commission, such as orders, notices, and rulemakings. From the FERC Internet website, click on the “CIPS” link, select “Docket #” from the CIPS Menu, and follow the instructions. For assistance with access to CIPS, the CIPS helpline can be reached at (202) 208-2474.

Linwood A. Watson, Jr.,
Acting Secretary.

[FR Doc. 01-31061 Filed 12-17-01; 8:45 am]

BILLING CODE 6717-01-P